DEPARTMENT OF DEFENSE

Office of the Secretary

[Docket ID DOD-2011-OS-0149]

Privacy Act of 1974; System of Records

AGENCY: Defense Threat Reduction Agency, DoD.

ACTION: Notice to Alter a System of Records.

SUMMARY: The Defense Threat Reduction Agency proposes to alter a system of records in its inventory of record systems subject to the Privacy Act of 1974 (5 U.S.C. 552a), as amended.

DATES: This proposed action would be effective without further notice on February 3, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Juanita Gaines, Freedom of Information and Privacy Office, Defense Threat Reduction Agency, 8725 John J. Kingman Road, Fort Belvoir, VA 22060-6201, or by phone at (703) 767-1771.

SUPPLEMENTARY INFORMATION: The Defense Threat Reduction Agency notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on December 21, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 29, 2011.
Aaron Siegel,
Alternate OSD Federal Register Liaison Officer, Department of Defense.

HDTRA 007

System name:

Security Services (December 4, 2009, 74 FR 63734).

Changes:

* * * * *

System location(s):

Delete entry and replace with “Primary location: Security and Counterintelligence Office, Defense Threat Reduction Agency, 8725 John J. Kingman Road, Fort Belvoir, VA 22060-6201.

Secondary locations:

Security and Counterintelligence Office Albuquerque, Defense Threat Reduction Agency, 1680 Texas Street SE., Kirtland Air Force Base, Albuquerque, NM 87117-5669.

Security and Counterintelligence Field Office Travis, Defense Threat Reduction Agency, 510 Hickman Avenue, Travis Air Force Base, CA 94535-1801.

Security and Counterintelligence European Operations Division, Defense Threat Reduction Agency, Kleber Kaserne, Mannheimer Strasse, Building 3211, Room 104, Kaiserslautern, Germany.

Security and Counterintelligence Field Office Eglin, Defense Threat Reduction Agency, Eglin Air Force Base, 101 West Eglin Blvd., Building 13A, Suite 39, Eglin AFB, FL 32542-5650.”

* * * * *

Categories of records in the system:

Delete entry and replace with “Name; Social Security Number (SSN); home address, date and place of birth; height; weight; hair and eye color; citizenship; grade/rank; services; organization; security clearance; date of clearance; date of investigation; type of investigation; agency that conducted investigation; basis special accesses; courier authorization; continuous access roster expiration date; badge number; vehicle ID and decal number; special intelligence access; expiration date, agency, billet number; list of badges/passes issued; safes and open storage locations/custodians; conference title/duties/location; special access/briefings; visit requests; conference rosters; clearance and special access rosters; picture identification; correspondence concerning adjudication/passing of clearances/accesses; information from DD 254 (contract security classification specification form) which identifies the type or level of classified material the specific contractor has access to; and security inquiries and insider threats.”

Authority for maintenance of the system:

Delete entry and replace with “5 U.S.C. 301, Departmental Regulations; E.O. 10450, Security Requirements for Government Employment; E.O. 12065, National Security Information; The Atomic Energy Act of 1954, Section 145; and E.O. 9397 (SSN), as amended.”

Purpose(s):

Delete entry and replace with “For use by officials and employees of the Defense Threat Reduction Agency in the performance of their official duties related to continuous review, insider threat and determining the eligibility of individuals for access to classified information and occupancy of a sensitive position, access to buildings and facilities, or to conferences over which DTRA has security responsibility.”

* * * * *

Retrievability:

Delete entry and replace with “By individual's last name and SSN.”

* * * * *

Retention and disposal:

Delete entry and replace with “Computer records on individuals are moved to historical area of database files upon termination of an individual's affiliation with DTRA; personnel security files are retained for two years at which point the Classified Information Non-disclosure Agreement forms (SF 312) for civilians are mailed to the Defense Logistics Agency Human Resources and all others are destroyed. Manual records or conference attendees, visitors, and visit certifications to other agencies are maintained for two years and destroyed. All computer records are deleted with a separation date greater than 2 years except for those that have the following criteria: (a) Eligibilities of denied, revoked or pending reply to statement of reasons; (b) eligibilities of loss of jurisdiction, action pending, interim declination; and (c) suspend accesses that have not been debriefed. All records with a death date greater than a year are deleted. The following records are retained until there is clear guidance on record retention: (a) Eligibilities of denied, revoked or pending reply to statement of reasons; (b) eligibilities of loss of jurisdiction, action pending, interim declination; and (c) suspend accesses that have not been debriefed. Computer records are deleted and paper records are shredded.”

System manager(s) and address:

Delete entry and replace with “Chief, Security and Counterintelligence Office, Defense Threat Reduction Agency, 8725 John J. Kingman Drive, Ft. Belvoir, VA 22060-6201.”

Notification procedure:

Delete entry and replace with “Individuals seeking to determine whether information about themselves is contained in this system of records should address written inquiries to the Defense Threat Reduction Agency, Freedom of Information/Privacy Act Office, 8725 John J. Kingman Drive, Ft. Belvoir, VA 22060-6201.

Written requests for information should contain the full name, home address, SSN, date and place of birth.

For personal visits, the individual must be able to provide identification showing full name, date and place of birth, and their SSN.”

Record access procedures:

Delete entry and replace with “Individuals seeking access to information about themselves contained in this system of records should address written inquiries to the Defense Threat Reduction Agency, Freedom of Information/Privacy Act Office, 8725 John J. Kingman Drive, Ft. Belvoir, VA 22060-6201.

Written requests for information should contain the full name, home address, SSN, date and place of birth.

For personal visits, the individual must be able to provide identification showing full name, date and place of birth, and their SSN.”

Contesting record procedures:

Delete entry and replace with “The DTRA rules for accessing records and for contesting contents and appealing initial agency determinations are published in DTRA Instruction 5400.11; 32 CFR part 318; or may be obtained from the system manager.”

* * * * *

HDTRA 007

System name:

Security Services.

System location(s):

Primary location: Security and Counterintelligence Office, Defense Threat Reduction Agency, 8725 John J. Kingman Road, Fort Belvoir, VA 22060-6201.

Secondary locations:

Security and Counterintelligence Office Albuquerque, Defense Threat Reduction Agency, 1680 Texas Street SE., Kirtland Air Force Base, Albuquerque, NM 87117-5669.

Security and Counterintelligence Field Office Travis, Defense Threat Reduction Agency, 510 Hickman Avenue, Travis Air Force Base, CA 94535-1801.

Security and Counterintelligence European Operations Division, Defense Threat Reduction Agency, Kleber Kaserne, Mannheimer Strasse, Building 3211, Room 104, Kaiserslautern, Germany.

Security and Counterintelligence Field Office Eglin, Defense Threat Reduction Agency, Eglin Air Force Base, 101 West Eglin Blvd., Building 13A, Suite 39, Eglin AFB, FL 32542-5650.

Categories of individuals covered by the system:

All military and civilian personnel assigned to, or employed by Defense Threat Reduction Agency (DTRA).

Categories of records in the system:

Name; Social Security Number (SSN); home address, date and place of birth; height; weight; hair and eye color; citizenship; grade/rank; services; organization; security clearance; date of clearance; date of investigation; type of investigation; agency that conducted investigation; basis special accesses; courier authorization; continuous access roster expiration date; badge number; vehicle ID and decal number; special intelligence access; expiration date, agency, billet number; list of badges/passes issued; safes and open storage locations/custodians; conference title/duties/location; special access/briefings; visit requests; conference rosters; clearance and special access rosters; picture identification; correspondence concerning adjudication/passing of clearances/accesses; information from DD 254 (contract security classification specification form) which identifies the type or level of classified material the specific contractor has access to; and security inquiries and insider threats.”

Authority for maintenance of the system:

5 U.S.C. 301, Departmental Regulations; E.O. 10450, Security Requirements for Government Employment; E.O. 12065, National Security Information; The Atomic Energy Act of 1954, Section 145; and E.O. 9397 (SSN), as amended.”

Purpose(s):

For use by officials and employees of the Defense Threat Reduction Agency in the performance of their official duties related to continuous review, insider threat and determining the eligibility of individuals for access to classified information and occupancy of a sensitive position, access to buildings and facilities, or to conferences over which DTRA has security responsibility.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To officials and employees of Government contractors and other Government agencies in the performance of their official duties related to the screening and selection of individuals for security clearances and/or special authorizations, access to facilities or attendance at conferences.

The DoD “Blanket Routine Uses” published at the beginning of DTRA's compilation of systems of records notices apply to this system.

Policies and practices for storing, retrieving, accessing, retaining, and disposing of records in the system:

Storage:

Electronic storage media and paper records.

Retrievability:

By individual's last name and SSN.

Safeguards:

The computer facility and terminals are located in restricted areas accessible only to authorized personnel. Manual records and computer printouts are available only to authorized persons with an official need to know. Buildings are protected by security forces and an electronic security system.

Retention and disposal:

Computer records on individuals are moved to historical area of database files upon termination of an individual's affiliation with DTRA; personnel security files are retained for two years at which point the Classified Information Non-disclosure Agreement forms (SF 312) for civilians are mailed to the Defense Logistics Agency Human Resources and all others are destroyed. Manual records or conference attendees, visitors, and visit certifications to other agencies are maintained for two years and destroyed. All computer records are deleted with a separation date greater than 2 years except for those that have the following criteria: (a) Eligibilities of denied, revoked or pending reply to statement of reasons; (b) eligibilities of loss of jurisdiction, action pending, interim declination; and (c) suspend accesses that have not been debriefed. All records with a death date greater than a year are deleted. The following records are retained until there is clear guidance on record retention: (a) Eligibilities of denied, revoked or pending reply to statement of reasons; (b) eligibilities of loss of jurisdiction, action pending, interim declination; and (c) suspend accesses that have not been debriefed. Computer records are deleted and paper records are shredded.

System manager(s) and address:

Chief, Security and Counterintelligence Office, Defense Threat Reduction Agency, 8725 John J. Kingman Drive, Ft. Belvoir, VA 22060-6201.

Notification procedure:

Individuals seeking to determine whether information about themselves is contained in this system of records should address written inquiries to the Defense Threat Reduction Agency, Freedom of Information/Privacy Act Office, 8725 John J. Kingman Drive, Ft. Belvoir, VA 22060-6201.

Written requests for information should contain the full name, home address, SSN, date and place of birth.

For personal visits, the individual must be able to provide identification showing full name, date and place of birth, and their SSN.

Record access procedures:

Individuals seeking access to information about themselves contained in this system of records should address written inquiries to the Defense Threat Reduction Agency, Freedom of Information/Privacy Act Office, 8725 John J. Kingman Drive, Ft. Belvoir, VA 22060-6201.

Written requests for information should contain the full name, home address, SSN, date and place of birth.

For personal visits, the individual must be able to provide identification showing full name, date and place of birth, and their SSN.

Contesting record procedures:

The DTRA rules for accessing records and for contesting contents and appealing initial agency determinations are published in DTRA Instruction 5400.11; 32 CFR part 318; or may be obtained from the system manager.

Record source categories:

Information is extracted from military and civilian personnel records, investigative files, and voluntarily submitted by the individual. Other Government agencies, law enforcement officials and contractors may provide the same data.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2), and (3), (c) and (e) and published in 32 CFR part 318.

[FR Doc. 2011-33737 Filed 1-3-12; 8:45 am]

BILLING CODE 5001-06-P